NUCLEAR REGULATORY COMMISSION

[NRC-2011-0191]

License Renewal Interim Staff Guidance LR-ISG-2011-05: Ongoing Review of Operating Experience

AGENCY: Nuclear Regulatory Commission.

ACTION: Interim staff guidance; issuance.

SUMMARY: The U.S. Nuclear Regulatory Commission (NRC) is issuing the final License Renewal Interim Staff Guidance (LR-ISG), LR-ISG-2011-05, “Ongoing Review of Operating Experience.” This LR-ISG provides guidance and clarification concerning ongoing reviews of plant-specific and industry-wide operating experience as an attribute of aging management programs used at nuclear power plants as described in NUREG-1801, Revision 2, “Generic Aging Lessons Learned (GALL) Report,” (Agencywide Documents Access and Management System (ADAMS) Accession No. ML103490041), and NUREG-1800, Revision 2, “Standard Review Plan for Review of License Renewal Applications for Nuclear Power Plants” (SRP-LR) (ADAMS Accession No. ML103490036).

ADDRESSES: Please refer to Docket ID NRC-2011-0191 when contacting the NRC about the availability of information regarding this document. You may access information related to this document, which the NRC possesses and is publicly-available, using the following methods:

• Federal Rulemaking Web site: Go to http://www.regulations.gov and search for Docket ID NRC-2011-0191. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documentsz,” and then select “Begin Web-based ADAMS Search.” For problems with ADAMS, please contact the NRC's Public Document Room (PDR) reference staff at 1-800-397-4209, 301-415-4737, or by email to pdr.resource@nrc.gov. The final LR-ISG-2011-05 is available under ADAMS Accession No. ML12044A215.

• NRC's PDR: You may examine and purchase copies of public documents at the NRC's PDR, Room O1-F21, One White Flint North, 11555 Rockville Pike, Rockville, Maryland 20852.

• NRC's Interim Staff Guidance Web Site: LR-ISG documents are also available online under the “License Renewal” heading at http://www.nrc.gov/reading-rm/doc-collections/#int.

FOR FURTHER INFORMATION CONTACT: Mr. Matthew Homiack, Division of License Renewal, Office of Nuclear Reactor Regulation, U.S. Nuclear Regulatory Commission, Washington, DC 20555-0001; telephone: 301-415-1683; email: Matthew.Homiack@nrc.gov.

SUPPLEMENTARY INFORMATION:

Background Information

The NRC issues LR-ISG to communicate insights and lessons learned and to address emergent issues not covered in license renewal guidance documents. In this way, the NRC staff and stakeholders may use the guidance in an LR-ISG document until it is incorporated into a formal license renewal guidance document revision. The NRC staff issues LR-ISG in accordance with the LR-ISG Process, Revision 2 (ADAMS Accession No. ML100920158), for which a notice of availability was published in the Federal Register on June 22, 2010 (75 FR 35510).

The NRC staff developed LR-ISG-2011-05 to clarify guidance on how the ongoing review of operating experience should be used to ensure the effectiveness of the license renewal aging management programs used at nuclear power plants to meet the requirements of Title 10 of the Code of Federal Regulations (10 CFR) Part 54, “Requirements for Renewal of Operating Licenses for Nuclear Power Plants.” The final LR-ISG-2011-05 revises the NRC staff's recommended aging management programs in the GALL Report and the NRC staff's aging management review procedures and acceptance criteria in the SRP-LR.

On August 24, 2011 (76 FR 52995), the NRC requested public comments on draft LR-ISG-2011-05. By letter dated August 29, 2011 (ADAMS Accession No. ML11242A114), the Nuclear Energy Institute (NEI) requested a 30-day extension to the comment period and a public meeting to discuss draft comments and questions concerning implementation of the LR-ISG. The NRC staff granted the NEI's requests, as noticed on September 20, 2011 (76 FR 58311). The public meeting was held on October 12, 2011 (ADAMS Accession No. ML11304A259), and the comment period was extended until October 23, 2011.

During this time, the NRC staff identified the need to include additional guidance on areas where license renewal applicants should ensure their programmatic activities for operating experience reviews are appropriate for considering operating experience related to aging management. The NRC staff identified this need through its ongoing reviews of license renewal applications and through insights gained on how nuclear power plant licensees carry out their operating experience review activities. The additional guidance covers areas where enhancements may need to be made for license renewal, such as the specific kind of information that should be considered as operating experience, the training of plant personnel, information to consider in operating experience evaluations, criteria for identifying and categorizing operating experience as related to aging, and guidelines for reporting operating experience on age-related degradation to the industry. The NRC staff outlined these changes at the October 12, 2011, public meeting and a revised draft LR-ISG was issued for public comment on November 25, 2011 (76 FR 72725).

The NRC received comments from Exelon Generation Company, LLC, by letter dated October 18, 2011 (ADAMS Accession No. ML11298A171), and from the NEI by letters dated October 18, 2011 (ADAMS Accession No. ML11293A041), and December 15, 2011 (ADAMS Accession No. ML11354A228). No other comments were submitted. The NRC considered these comments in developing the final LR-ISG. Detailed responses to the comments can be found in Appendix C of the final LR-ISG.

The final LR-ISG-2011-05 is approved for NRC staff and stakeholder use and will be incorporated into NRC's next formal license renewal guidance document revision.

Backfitting and Issue Finality

Issuance of this final LR-ISG does not constitute backfitting as defined in 10 CFR 50.109 (the Backfit Rule) and is not otherwise inconsistent with the issue finality provisions in Part 52, “Licenses, Certifications, and Approvals for Nuclear Power Plants,” of 10 CFR. As discussed in the “Backfitting Discussion” section of final LR-ISG-2011-05, the LR-ISG is directed to holders of operating licenses or combined licenses who are currently in the license renewal process. The LR-ISG is not directed to holders of operating licenses or combined licenses until they apply for license renewal. The LR-ISG is also not directed to licensees who already hold renewed operating or combined licenses.

Dated at Rockville, Maryland, this 9th day of March 2012.
For the Nuclear Regulatory Commission.
Melanie A. Galloway,
Acting Director, Division of License Renewal, Office of Nuclear Reactor Regulation.

[FR Doc. 2012-6409 Filed 3-15-12; 8:45 am]

BILLING CODE 7590-01-P